DEPARTMENT OF ENERGY

Federal Energy Regulatory Commission

[Docket No. EL09-47-000]

Richard Blumenthal, Attorney General for the State of Connecticut, Complainant, v. ISO-New England, Inc., Certain Unidentified Market Participant Importer(s) of Installed Capacity, Respondents; Notice of Complaint

April 21, 2009.

Take notice that on April 20, 2009, Richard Blumenthal, Attorney General for the State of Connecticut (CTAG) filed a formal complaint against ISO-New England, Inc. (ISO-NE) and Certain Unidentified Market Participant Importer(s) of Installed Capacity pursuant to sections 205 and 206 of the Federal Power Act (FPA), and Rule 206 of the Commission's Rule of Practice and Procedure. In the complaint, the CTAG seeks an investigation, hearing, disgorgement and other appropriate penalties, as well as fast track processing, with regard to payment of certain ISO-NE Market York AC Interface.

The CTAG certifies that copies of the complaint were served on the contacts for ISO-NE as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 11, 2009.

Kimberly D. Bose,
Secretary.

[FR Doc. E9-9604 Filed 4-27-09; 8:45 am]

BILLING CODE 6717-01-P